DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On October 11, 2019, OFAC determined that the property and interests in property subject to U.S. jurisdiction of the following persons are blocked under the relevant sanctions authority listed below.

Individuals

1. AL-CARDINAL, Ashraf Seed Ahmed (a.k.a. HUSSEIN, Ashraf Said Ahmed; a.k.a. HUSSEIN, Ashraf Seed Ahmed; a.k.a. SEED AHMED, Asharaf; a.k.a. SEED AHMED, Ashraff; a.k.a. SEEDAHMED, Ashiraf; a.k.a. “ALI, Ashraf Sayed”; a.k.a. “HUSSEIN ALI, Ashraf”), 1 College Yard, Winchester Avenue, London, England NW6 7UA, United Kingdom; 207 Jersey Road, Osterley, London TW7 4RE, United Kingdom; DOB 01 Jan 1957 to 31 Jan 1957; nationality Sudan; Gender Male (individual) [GLOMAG].

Designated pursuant to section 1(a)(iii)(A)(1) of Executive Order 13818 of December 20, 2017, “Blocking the Property of Persons Involved in Serious Human Rights Abuse or Corruption” (E.O. 13818) for having materially assisted, sponsored, or provided financial, material, or technological support for, or goods or services to or in support of, corruption, including the misappropriation of state assets, the expropriation of private assets for personal gain, corruption related to government contracts or the extraction of natural resources, or bribery.

2. AJING ATER, Kur (a.k.a. AJING ATER KUR, Kur; a.k.a. AJING, Kur), Juba, South Sudan; DOB 02 Jan 1962; POB Equatorial Guinea; nationality South Sudan; Gender Male; Passport B00001010 (South Sudan) expires 11 Aug 2022 (individual) [GLOMAG].

Designated pursuant to section 1(a)(iii)(A)(1) of E.O. 13818 for having materially assisted, sponsored, or provided financial, material, or technological support for, or goods or services to or in support of, corruption, including the misappropriation of state assets, the expropriation of private assets for personal gain, corruption related to government contracts or the extraction of natural resources, or bribery.

Entities

1. AL CARDINAL INVESTMENTS CO. LTD (a.k.a. AL-CARDINAL INVESTMENTS COMPANY LIMITED), 201 Kasini Road, Mombasa, Kenya; Juba, South Sudan; Tax ID No. 100104695 (South Sudan) [GLOMAG] (Linked To: AL-CARDINAL, Ashraf Seed Ahmed).

Designated pursuant to 1(a)(iii)(B) of E.O. 13818 for being owned or controlled by, or for having acted or purported to act for or on behalf of, directly or indirectly, AL-CARDINAL, Ashraf Seed Ahmed, a person whose property and interests in property are blocked pursuant to E.O. 13818.

2. ALCARDINAL GENERAL TRADING LIMITED, 207 Jersey Road, Osterley, London TW7 4RE, United Kingdom; Company Number 08227698 (United Kingdom) [GLOMAG] (Linked To: AL-CARDINAL, Ashraf Seed Ahmed).

Designated pursuant to 1(a)(iii)(B) of E.O. 13818 for being owned or controlled by, or for having acted or purported to act for or on behalf of, directly or indirectly, AL-CARDINAL, Ashraf Seed Ahmed, a person whose property and interests in property are blocked pursuant to E.O. 13818.

3. ALCARDINAL GENERAL TRADING LLC, Dubai, United Arab Emirates [GLOMAG] (Linked To: AL-CARDINAL, Ashraf Seed Ahmed).

Designated pursuant to 1(a)(iii)(B) of E.O. 13818 for being owned or controlled by, or for having acted or purported to act for or on behalf of, directly or indirectly, AL-CARDINAL, Ashraf Seed Ahmed, a person whose property and interests in property are blocked pursuant to E.O. 13818.

4. ALCARDINAL PETROLEUM COMPANY LIMITED (a.k.a. ALCARDINAL PETROLEUM CO. LTD), Mombasa, Kenya; Juba, South Sudan [GLOMAG] (Linked To: AL-CARDINAL, Ashraf Seed Ahmed).

Designated pursuant to 1(a)(iii)(B) of E.O. 13818 for being owned or controlled by, or for having acted or purported to act for or on behalf of, directly or indirectly, AL-CARDINAL, Ashraf Seed Ahmed, a person whose property and interests in property are blocked pursuant to E.O. 13818.

5. NILETEL, Juba, South Sudan [GLOMAG] (Linked To: AL-CARDINAL, Ashraf Seed Ahmed).

Designated pursuant to 1(a)(iii)(B) of E.O. 13818 for being owned or controlled by, or for having acted or purported to act for or on behalf of, directly or indirectly, AL-CARDINAL, Ashraf Seed Ahmed, a person whose property and interests in property are blocked pursuant to E.O. 13818.

6. LOU TRADING AND INVESTMENT COMPANY LIMITED (a.k.a. LOU TRADING AND INVESTMENT CO LTD; a.k.a. LOU TRADING AND INVESTMENT COMPANY LTD), Juba, South Sudan; Tax ID No. 100108046 (South Sudan) [GLOMAG] (Linked To: AJING ATER, Kur).

Designated pursuant to 1(a)(iii)(B) of E.O. 13818 for being owned or controlled by, or for having acted or purported to act for or on behalf of, directly or indirectly, AJING ATER, Kur, a person whose property and interests in property are blocked pursuant to E.O. 13818.

Dated: October 11, 2019.
Bradley T. Smith,
Deputy Director, Office of Foreign Assets Control.

[FR Doc. 2019-23786 Filed 10-30-19; 8:45 am]

BILLING CODE 4810-AL-P